OFFICE OF MANAGEMENT AND BUDGET

Notification of a Public Meeting on the Presidential Memorandum on Government Contracting

AGENCY: Office of Management and Budget, Executive Office of the President.

ACTION: Notice of a public meeting and request for comments.

SUMMARY: The Presidential Memorandum on Government Contracting, issued on March 4, 2009, establishes a framework for improving critical components of the federal acquisition system and management of the Federal Government's “multi-sector” workforce of federal employees and private sector contractors. The Memorandum directs the Office of Management and Budget (OMB), in consultation with federal agency leadership, to improve and strengthen federal contracting practices and to seek input from the public on the most effective ways to achieve this goal. Section 321 of the National Defense Authorization Act (NDAA) for Fiscal Year 2009 further directs OMB to clarify the definition of an inherently governmental function and to develop criteria to be used by agency heads to identify other functions that should only be performed by Federal employees. The Presidential Memorandum is available at http://www.whitehouse.gov/briefing_room/PresidentialActions/pg2/. Section 321 may be found at http://www.rules.house.gov/110/text/110_hr5658.pdf.

In furtherance of the President's Memorandum and section 321 of the FY 2009 NDAA, OMB invites interested parties from both the public and private sectors to provide comments on: (1) Maximizing the use of competition; (2) improving practices for selecting contract types; (3) strengthening the acquisition workforce; and (4) clarifying when functions should be performed by federal employees and when contractors may be appropriately considered.

Interested parties may offer oral and/or written comments at a public meeting to be held on June 18, 2009. Parties are also encouraged to provide all written comments directly to http://www.regulations.gov.

DATES: A public meeting will be conducted on June 18, 2009, at 9 a.m. eastern time and ending no later than 1 p.m. eastern time.

Procedures for the public meeting: The public is asked to pre-register by June 8, 2009, due to security and seating limitations. To pre-register, please send an e-mail to Ms. Julia Wise of OFPP at jwise@omb.eop.gov. Registration check-in will begin at 8 a.m. eastern time and the meeting will start at 9 a.m. eastern time.

Oral Public Comments: A key purpose of the meeting is to encourage public comment through dialogue on each of the four topics described above. Accordingly, one hour will be allotted for each topic. A facilitator will briefly introduce each topic and organize discussion through questions.

Parties wishing to make formal oral presentations at the public meeting must contact Ms. Wise by electronic mail at: jwise@omb.eop.gov no later than June 8, 2009, to be placed on the public speaker list. Verbal requests for speaking time will not be taken. Time allocations for oral presentations will be limited and depend on the number of requests. All formal oral public comments must also be followed-up in writing and submitted to http://www.regulations.gov. When submitting your comments, reference “Public Comments on the Government Contracting Memorandum.” Note: Written statements are strongly preferred to formal oral presentations in order to provide maximum opportunity for dialogue with the participants.

Written Comments/Statements: Parties wishing to share written statements at the public meeting must submit such statements to Ms. Wise at jwise@omb.eop.gov by June 8, 2009. In lieu of, or in addition to, participating in the public meeting, interested parties may submit written comments to http://www.regulations.gov by July 17, 2009. When submitting your comments, reference “Public Comments on the Government Contracting Memorandum.”

ADDRESSES: The public meeting will be held at the General Services Administration Auditorium located at 1800 F Street, NW., Washington, DC 20405. Enter at the second entrance on F Street.

Meeting Accommodations: The public meeting is physically accessible to people with disabilities. Request for sign language interpretation or other auxiliary aids should be directed to Ms. Wise at jwise@omb.eop.gov or (202) 395-7561 by June 8, 2009.

FOR FURTHER INFORMATION CONTACT: For clarification of the subject matter related to the memorandum: Mr. Mathew Blum, OFPP, (202) 395-4953 or mblum@omb.eop.gov or Ms. Julia Wise, OFPP, (202) 395-7561 or jwise@omb.eop.gov. For public meeting information and submission of comment: Ms. Julia Wise, OFPP, (202) 395-7561 or jwise@omb.eop.gov.

SUPPLEMENTARY INFORMATION: The Presidential Memorandum on Government Contracting requires the Director of OMB to develop guidance by September 30, 2009, for strengthening several critical aspects of the federal acquisition system. In 2008, federal agencies used this system to acquire more than $500 billion in goods and services. The Memorandum directs OMB to focus attention on strengthening four key areas: (1) Use of competition; (2) practices for use and oversight of cost-reimbursement contracts and other contract types; (3) the capacity and ability of the acquisition workforce; and (4) policies addressing when governmental outsourcing for services is and is not appropriate. The Presidential Memorandum requires that OMB issue guidance addressing each of these areas by September 30, 2009.

Section 321 of the National Defense Authorization Act (NDAA) for Fiscal Year 2009 further directs OMB, in consultation with representatives of the Chief Acquisition Officers (CAO) Council and the Chief Human Capital Officers (CHCO) Council to take a number of steps related to the government's management of its multi-sector workforce of federal employees and contracted employees. These steps include reviewing and developing a single consistent definition of the term “inherently governmental function” and establishing criteria that agencies may use to identify critical functions and positions that, while not inherently governmental, should be performed only by Federal Government employees to ensure the agency maintains control of its mission and operations.

OMB is working with officials from the Department of Defense (DOD), the National Aeronautics and Space Administration (NASA), the General Services Administration (GSA), the Office of Personnel Management (OPM), and other agencies, including representatives from the CAO Council and CHCO Council, to strengthen practices in the four areas described above. OMB seeks public input on these topical areas, including the questions posed in connection with each of these areas, as described below:

(1) Maximizing the use of competition—What are the government's greatest barriers to using competition and what steps can be taken to maximize competitive practices? What is the best way to make certain that the government is not overly reliant on sole-source contracts (or contracts with a limited number of sources)? What are key principles to avoiding sole-source contracts? When is use of multiple award task and delivery order contracts appropriate? What effect, if any, do the following factors have in selecting a competition strategy: nature of the requirements (type of supplies or services), complexity, marketplace, knowledge level of the requirements, terms and conditions, time available for competing the work, dollar value, socio-economic requirements?

(2) Improving practices for selecting the right contract type—What policies and practices pose the greatest obstacles to the government's ability to achieve good outcomes in various contract types? What effect does the government's choice of contract type have on contractor pricing? What practices might better enable the government to make better use of fixed price contracts? How can agencies improve the use and management of cost-type, time and material, and labor hour contracts? Does the Federal Acquisition Regulation provide sufficient information on the appropriate use and management of various contract types to minimize risk and maximize the value?

(3) Strengthening the acquisition workforce—What are best practices, within Government and industry, for recruiting, retaining, developing and promoting high-quality acquisition and program management professionals and other mission-critical occupations? How does an organization conduct succession management that considers current needs—both quantitative and qualitative—and future human capital requirements? What are the top skills gaps in the federal acquisition workforce (broadly defined to include not only contracting officers but also requirements and planning officials, and program and project managers, and technical representatives responsible for managing contract performance on the contracting officer's behalf, etc.)? What are Government and industry best practices for integrating requirements development and acquisition? What is the best method for assuring that sufficient funding is in place for effective acquisition oversight and management?

(4) Managing the multi-sector workforce—How might the current definition of inherently governmental function be clarified to improve management of the multi-sector workforce? What types of criteria might help agencies identify non-inherently governmental functions that are critical to an agency, with respect to its unique missions and structure, and need to be performed by federal employees in order for the agency to maintain control of its mission and operations? What criteria should agencies use in selecting activities that might be candidates for in sourcing? What criteria should agencies use in deciding whether a government activity should be competed? How do federal contracting policies affect practices in the private sector labor market? If there are laws, regulations, policies, or agency practices that a commenter believes have involved a misclassification of a function as inherently governmental or as commercial, please identify these and outline your concern in as much detail as possible, so that this can help to inform our review.

Jeffrey B. Liebman,
Executive Associate Director, Office of Management and Budget.

[FR Doc. E9-12588 Filed 5-28-09; 8:45 am]

BILLING CODE P